DEPARTMENT OF COMMERCE

National Oceanic and Atmospheric Administration

50 CFR Part 622

[Docket No. 231101-0256; RTID 0648-XD532]

Fisheries of the Caribbean, Gulf of Mexico, and South Atlantic; Re-Opening of Commercial Fishery for Golden Tilefish in the South Atlantic

AGENCY: National Marine Fisheries Service (NMFS), National Oceanic and Atmospheric Administration (NOAA), Commerce.

ACTION: Temporary rule; re-opening.

SUMMARY: NMFS announces the re-opening of the commercial sector for golden tilefish in the exclusive economic zone (EEZ) of the South Atlantic. The 2023 commercial annual catch limits (ACLs) for the hook-and-line and longline components have recently increased through a separate rule. Therefore, NMFS re-opens the hook-and-line and longline components of the commercial sector for golden tilefish in the South Atlantic EEZ to allow the commercial ACL to be caught while increasing the corresponding benefit to the Nation with respect to providing food production.

DATES: This temporary rule is effective from December 7, 2023, through December 31, 2023.

FOR FURTHER INFORMATION CONTACT: Mary Vara, NMFS Southeast Regional Office, telephone: 727-824-5305, email: mary.vara@noaa.gov.

SUPPLEMENTARY INFORMATION: The snapper-grouper fishery of the South Atlantic includes golden tilefish and is managed under the Fishery Management Plan for the Snapper-Grouper Fishery of the South Atlantic Region (FMP). The FMP was prepared by the South Atlantic Fishery Management Council (Council) and NMFS. The FMP is implemented by NMFS under the authority of the Magnuson-Stevens Fishery Conservation and Management Act (Magnuson-Stevens Act) by regulations at 50 CFR part 622. All weights described in this temporary rule are in gutted weight.

The commercial sector for golden tilefish is composed of the hook-and-line and longline components, each with individual catch limits. Under the commercial accountability measures (AMs) for golden tilefish at 50 CFR 622.193(a)(1)(i) and (ii), NMFS is required to close each commercial component for golden tilefish when the applicable commercial quota specified under 50 CFR 622.190(a)(2)(ii) or (iii) is reached or is projected to be reached through a notification in the Federal Register. Earlier in the 2023 fishing year, NMFS determined separately that the commercial component quotas for golden tilefish in the South Atlantic were reached, and closed the hook-and-line component on October 31 (88 FR 74066, October 30, 2023) and closed the longline component on April 7 (88 FR 20079, April 5, 2023) for the rest of 2023 as required by the commercial AMs [50 CFR 622.193(a)(1)(i) and (ii)].

Also earlier in the 2023 fishing year, NMFS determined that the golden tilefish recreational sector reached its ACL, and NMFS closed the sector as required by the recreational AMs for the rest of 2023 (50 CFR 622.193(a)(2)(i); 88 FR 45369, July 17, 2023).

On November 7, 2023, NMFS published the final rule to implement Amendment 52 to the FMP, and that final rule is effective on December 7, 2023 (88 FR 76696). Among other management measures, Amendment 52 and the final rule increased the total ACL for golden tilefish in the South Atlantic EEZ. For the 2023 fishing year, the total ACL is 435,000 lb (197,313 kg).

The total ACL is divided between the commercial and recreational sectors, and the commercial ACL for golden tilefish is allocated 25 percent to the hook-and-line component and 75 percent to the longline component. The final rule to implement Amendment 52 increased the component ACLs, which are equivalent to the component quotas, based on the higher commercial ACL. In the 2023 fishing year, the hook-and-line component quota is 105,161 lb (47,700 kg) and the longline component quota is 315,484 lb (143,101 kg).

The final rule for Amendment 52 also increased the recreational ACL for golden tilefish to 2,559 fish for the 2023 fishing year. However, the most recent recreational landings data of South Atlantic golden tilefish indicate that the recently increased recreational ACL for 2023 has already been reached. Therefore, NMFS will not reopen the recreational harvest of golden tilefish in the South Atlantic during the 2023 fishing year.

In accordance with 50 CFR 622.8(c), NMFS re-opens the commercial hook-and-line and longline components for golden tilefish on December 7, 2023. The commercial components will remain open through the rest of the 2023 fishing year ending on December 31, 2023, to allow for the commercial ACL to be reached. NMFS has determined that this re-opening will allow for an additional opportunity to commercially harvest the increased hook-and-line and longline component quotas for golden tilefish in 2023 while also increasing the corresponding benefit to the Nation with respect to providing food production.

Classification

NMFS issues this action pursuant to section 305(d) of the Magnuson-Stevens Act. This action is required by 50 CFR 622.8(c), issued pursuant to section 304(b), and is exempt from review under Executive Order 12866.

Pursuant to 5 U.S.C. 553(b)(B), there is good cause to waive prior notice and an opportunity for public comment on this action, as notice and comment is unnecessary and contrary to the public interest. Such procedures are unnecessary and contrary to public interest because the regulations associated with the increased harvest levels and reopening of golden tilefish commercial components have already been subject to notice and public comment, and all that remains is to notify the public of the commercial reopening.

For the reasons stated earlier, the Assistant Administrator for Fisheries also finds good cause to waive the 30-day delay in the effectiveness of this action under 5 U.S.C. 553(d)(3).

Authority: 16 U.S.C. 1801 et seq.

Dated: November 17, 2023.
Kelly Denit,
Director, Office of Sustainable Fisheries, National Marine Fisheries Service.

[FR Doc. 2023-25821 Filed 11-17-23; 4:15 pm]

BILLING CODE 3510-22-P